DEPARTMENT OF AGRICULTURE

Foreign Agricultural Service

Trade Adjustment Assistance for Farmers

AGENCY: Foreign Agricultural Service, USDA.

ACTION: Notice.

The Administrator, Foreign Agricultural Service (FAS), today denied a petition for trade adjustment assistance (TAA) that was filed on December 4, 2003, by the U.S. Rice Producers Association, Houston, Texas.

SUPPLEMENTARY INFORMATION: Upon investigation, the Administrator determined that increasing imports of rice did not contribute importantly to the decline in domestic producer prices during the August 2002—July 2003 marketing year. Key factors contributing to the decline, according to an investigation conducted for the Administrator, were the growth in U.S. production and increased carry-in stocks of U.S.-produced rice. Increases in rice imports had only a minimal impact on the decline in domestic producer prices, because most imports are varieties of rice not produced in the United States and thus not directly competitive with U.S. rice production.

FOR FURTHER INFORMATION, CONTACT: Jean-Louis Pajot, Coordinator, Trade Adjustment Assistance for Farmers, FAS, USDA, (202) 720-2916, E-mail: trade.assistance@fas.usda.gov.

Dated: January 8, 2004.
A. Ellen Terpstra,
Administrator, Foreign Agricultural Service.

[FR Doc. 04-793 Filed 1-12-04; 8:45 am]

BILLING CODE 3410-10-P